DEPARTMENT OF TRANSPORTATION

Federal Aviation Administration

Public Notice for Waiver of Aeronautical Land-Use Assurance Former Willmar Municipal Airport, Willmar, MN

AGENCY: Federal Aviation Administration, DOT.

ACTION: Notice of intent of waiver with respect to land.

SUMMARY: The Federal Aviation Administration (FAA) is considering a proposal to authorize the release of 90 acres of airport property at the former Willmar Municipal Airport, Willmar, MN. The land will be used for an industrial park. The FAA issued a Categorical Exclusion on February 12, 2012.

The City of Willmar built a new airport in 2006, therefore the acreage being released is not needed for aeronautical use. The 90 acres are on the East side of the former Willmar Municipal Airport, more specifically East of County Road 5 and north of Willmar Avenue SW. The acreage was originally acquired with City of Willmar funds. There are no impacts to the airport by allowing the airport to dispose of the property. The fair market value of this land is $1,700,000 and will be applied to the new Willmar Municipal Airport for operating and maintaining the airport and/or improvements. Approval does not constitute a commitment by the FAA to financially assist in the disposal of the subject airport property nor a determination of eligibility for grant-in-aid funding from the FAA.

In accordance with section 47107(h) of title 49, United States Code, this notice is required to be published in the Federal Register 30 days before modifying the land-use assurance that requires the property to be used for an aeronautical purpose.

DATES: Comments must be received on or before May 23, 2012.

ADDRESSES: Ms. Nancy M. Nistler, Program Manager, Federal Aviation Administration, Airports District Office, 6020 28th Avenue South, Room 102, Minneapolis, MN 55450-2706. Telephone Number (612) 253-4638/FAX Number (612) 253-4611. Documents reflecting this FAA action may be reviewed at this same location or at the Willmar City Offices, 333 6th Street SW., Willmar, MN 56201.

FOR FURTHER INFORMATION CONTACT: Ms. Nancy M. Nistler, Program Manager, Federal Aviation Administration, Airports District Office, 6020 28th Avenue South, Room 102, Minneapolis, MN 55450-2706. Telephone Number (612) 253-4638/FAX Number (612) 253-4611. Documents reflecting this FAA action may be reviewed at this same location or at the Willmar City Offices, 333 6th Street SW., Willmar, MN 56201.

SUPPLEMENTARY INFORMATION: Following is a legal description of the subject airport property to be released at the former Willmar Municipal Airport in Willmar, Minnesota and described as that part of the West Half and also that part of Government Lot 3 and also that part of the southwest Quarter of the southeast Quarter, all located in Section 16, Township 119 North, Range 35 West of the Fifth Principal Meridian, Willmar Township, Kandiyohi County, Minnesota, described as follows:

Beginning at the southeast corner of the southwest quarter of said Section 16;

Thence on a geodetic bearing of north 89 degrees 36 minutes 20 seconds west, along the south line of said Section 16, a distance of 2547.51 feet;

Thence on a bearing of north 00 degrees 57 minutes 01 seconds west a distance of 816.83 feet;

Thence on a bearing of north 44 degrees 37 minutes 57 seconds east a distance of 139.98 feet;

Thence on a bearing of north 00 degrees 57 minutes 01 seconds west a distance of 100.02 feet;

Thence on a bearing of north 45 degrees 22 minutes 03 seconds west a distance of 142.85 feet;

Thence on a bearing of north 00 degrees 57 minutes 01 seconds west a distance of 750.79 feet;

Thence northerly, a distance of 103.01 feet, along a curve, which is concave to the east, having a radius of 11359.16 feet, a central angle of 0 degrees 31 minutes 10 seconds, and a chord bearing of north 00 degrees 41 minutes 26 seconds west;

Thence on a bearing of north 00 degrees 10 minutes 43 seconds west a distance of 100.01 feet;

Thence northerly, a distance of 118.08 feet, along a curve, which is concave to the east, having a radius of 11359.16 feet, a central angle of 0 degrees 35 minutes 44 seconds, and a chord bearing of north 00 degrees 22 minutes 17 seconds east;

Thence on a bearing of north 00 degrees 40 minutes 09 seconds east a distance of 1737.17 feet;

Thence on a bearing of south 74 degrees 37 minutes 43 seconds east a distance of 317.55 feet;

Thence easterly, a distance of 95.33 feet, along a curve, which is concave to the north, having a radius of 150.00 feet, a central angle of 36 degrees 24 minutes 52 seconds, and a chord bearing of north 87 degrees 09 minutes 52 seconds east;

Thence on a bearing of north 68 degrees 57 minutes 26 seconds east a distance of 941.53 feet;

Thence on a bearing of north 85 degrees 52 minutes 26 seconds east a distance of 75.02 feet;

Thence on a bearing of south 68 degrees 17 minutes 05 seconds east a distance of 81.23 feet;

Thence on a bearing of south 86 degrees 05 minutes 50 seconds east a distance of 47.38 feet;

Thence on a bearing of north 63 degrees 25 minutes 42 seconds east a distance of 15.73 feet to the southerly right of way boundary line of the state highway;

Thence on a bearing of south 69 degrees 56 minutes 49 minutes east, along the southerly right of way boundary line of the state highway, a distance of 37.90 feet to the westerly line of 28th Street SW., as shown on the record plat entitled Willmar Industrial Park Second Addition, on file in the office of the Kandiyohi County Recorder;

Thence on a bearing of south 20 degrees 05 minutes 26 seconds west, along the westerly line of said 28th Street SW., a distance of 662.91 feet;

Thence southeasterly, along the northwesterly line of said 28th Street SW., a distance of 160.23 feet, along a curve which is concave to the northwest, having a radius of 319.44 feet, a central angle of 28 degrees 44 minutes 18 seconds, and a chord bearing of south 34 degrees 27 minutes 34 seconds west;

Thence on a bearing of south 48 degrees 49 minutes 43 seconds west, along the northwesterly line of said 28th Street SW., a distance of 1197.80 feet;

Thence southwesterly, along the northwesterly line of said 28th Street SW., a distance of 336.70 feet, along a curve which is concave to the southeast, having a radius of 397.94 feet, a central angle of 48 degrees 28 minutes 44 seconds, and a chord bearing of south 24 degrees 35 minutes 18 seconds west;

Thence on a bearing of south 89 degrees 39 minutes 01 seconds east a distance of 5.09 feet;

Thence on a bearing of south 00 degrees 19 minutes 46 seconds west, a distance of 614.84 feet;

Thence on bearing of south 45 degrees 00 minutes 52 seconds east a distance of 533.66 feet to the north line of the south half of the southwest Quarter of said Section 16;

Thence on a bearing of south 89 degrees 38 minutes 06 seconds east, along the north line of the south Half of the southwest Quarter of said Section 16, a distance of 842.12 feet;

Thence on a bearing of south 00 degrees 21 minutes 54 seconds west a distance of 302.32 feet;

Thence on a bearing of south 45 degrees 18 minutes 52 seconds east a distance of 1293.75 feet;

Thence southeasterly, a distance of 193.28 feet, along a curve which is concave to the northeast, having a radius of 250.00 feet, a central angle of 44 degrees 17 minutes 51 seconds and a chord bearing of south 67 degrees 27 minutes 47 seconds east;

Thence on a bearing of south 89 degrees 36 minutes 42 seconds east a distance of 128.06 feet;

Thence on bearing of south 00 degrees 13 minutes 28 seconds east a distance of 46.45 feet to the south line of said Section 16;

Thence on a bearing of north 89 degrees 36 minutes 24 seconds west, along the south line of said Section 16, a distance of 53.20 feet to the point of beginning.

Issued in Minneapolis, MN, on April 3, 2012.
Steven J. Obenauer,
Manager, Minneapolis Airports District Office, FAA, Great Lakes Region.

[FR Doc. 2012-9735 Filed 4-20-12; 8:45 am]

BILLING CODE 4910-13-P